DEPARTMENT OF COMMERCE

Foreign-Trade Zones Board

[B-86-2014]

Production Activity Not Authorized; Foreign-Trade Zone 57—Charlotte, North Carolina; Gildan Yarns, LLC; (Cotton, Cotton/Polyester Yarns); Salisbury, North Carolina

On December 8, 2014, the Charlotte Regional Partnership, grantee of FTZ 57, submitted a notification of proposed production activity to the Foreign-Trade Zones (FTZ) Board on behalf of Gildan Yarns, LLC, in Salisbury, North Carolina.

The notification was processed in accordance with the regulations of the FTZ Board (15 CFR part 400), including notice in the Federal Register inviting public comment (79 FR 75532, 12-18-2014). Pursuant to Section 400.37, the FTZ Board has determined that further review is warranted and has not authorized the proposed activity. If the applicant wishes to seek authorization for this activity, it will need to submit an application for production authority, pursuant to Section 400.23.

Dated: April 8, 2015.
Andrew McGilvray,
Executive Secretary.

[FR Doc. 2015-08592 Filed 4-13-15; 8:45 am]

BILLING CODE 3510-DS-P